DEPARTMENT OF LABOR

Office of the Secretary

Submission for OMB Review: Comment Request

December 12, 2005.

The Department of Labor (DOL) has submitted the following public information collection request (ICR) to the Office of Management and Budget (OMB) for review and approval in accordance with the Paperwork Reduction Act of 1995 (Pub. L. 104-13,44 U.S.C. Chapter 35). A copy of this ICR, with applicable supporting documentation, may be obtained by contacting Darrin King on 202-693-4129 (this is not a toll-free number) or E-Mail: king.darrin@dol.gov.

Comments should be sent to Office of Information and Regulatory Affairs, Attn: OMB Desk Officer for the Employment and Training Administration (ETA), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Revision of a Currently Approved Collection.

Title: Labor Exchange Reporting System (LERS).

OMB Number: 1205-0240.

Form Numbers: ETA-9002 A through E and VETS-200 A through C.

Frequency: On occasion for recordkeeping and Quarterly for reporting.

Affected Public: State, Local or Tribal Government.

Type of Response: Recordkeeping and Reporting.

Number of Respondents: 54.

Form | Annual responses | Average response time (hours) | Burden hours
ETA 9002 A | 216 | 346 | 74,641
ETA 9002 B | 216 | 346 | 74,641
ETA 9002 C | 216 | 346 | 74,641
ETA 9002 D | 216 | 346 | 74,641
ETA 9002 E | 216 | 21 | 4,536
VETS 200 A | 216 | 346 | 74,641
VETS 200 B | 216 | 346 | 74,641
VETS 200 C | 216 | 346 | 74,641
Total | 1,728 |  | *527,020
* Except for the ETA 9002E, the average time per response for the ETA 9002 A, B, C, D, and VETS 200 A, B, and C forms is estimated at 345.56 hours. Any statistical differences related to the calculation of total annual burden hours for these forms are due to rounding at 346.

Total Annualized Capital/Startup Costs: $0.

Total Annual Costs (operating/maintaining systems or purchasing services): $0.

Description: Respondents are State governments. Selected standardized information pertaining to customers in Wagner-Peyser programs will be collected and reported for the purposes of general program oversight, evaluation and performance assessment.

Ira L. Mills,
Departmental Clearance Officer.

[FR Doc. E5-7478 Filed 12-16-05; 8:45 am]

BILLING CODE 4510-30-P